DEPARTMENT OF ENERGY

Federal Energy Regulatory Commission

Combined Notice of Filings #1

Take notice that the Commission received the following exempt wholesale generator filings:

Docket Numbers: EG11-61-000.

Applicants: Paulding Wind Farm II LLC.

Description: Self-Certification of EWG Status of Paulding Wind Farm II LLC.

Filed Date: 02/25/2011.

Accession Number: 20110225-5126.

Comment Date: 5 p.m. Eastern Time on Friday, March 18, 2011.

Take notice that the Commission received the following electric rate filings:

Docket Numbers: ER11-2780-000.

Applicants: Safe Harbor Water Power Corporation.

Description: Safe Harbor Waste Power Corp. Supplement to Updated Market Power Analysis.

Filed Date: 02/22/2011.

Accession Number: 20110222-5240.

Comment Date: 5 p.m. Eastern Time on Tuesday, March 15, 2011.

Docket Numbers: ER11-2878-001.

Applicants: ISO New England Inc., Vermont Electric Power Company, Inc.

Description: ISO New England Inc. submits tariff filing per 35.17(b): Amendment to Change Requested Effective Date to be effective 4/1/2011.

Filed Date: 02/25/2011.

Accession Number: 20110225-5013.

Comment Date: 5 p.m. Eastern Time on Friday, March 18, 2011.

Docket Numbers: ER11-2928-001.

Applicants: Florida Power & Light Company.

Description: Florida Power & Light Company submits tariff filing per 35.17(b): Errata to FPL Rate Schedule FERC No. 318 between FPL and FKEC_FINAL_2_25_2011 to be effective 12/31/9998.

Filed Date: 02/25/2011.

Accession Number: 20110225-5139.

Comment Date: 5 p.m. Eastern Time on Friday, March 18, 2011.

Docket Numbers: ER11-2948-000.

Applicants: San Diego Gas & Electric Company.

Description: San Diego Gas & Electric Company submits tariff filing per 35.13(a)(2)(iii: SGIP & LGIP Revisions to SDG&E's Open Access Tariff to be effective 2/24/2011.

Filed Date: 02/25/2011.

Accession Number: 20110225-5043.

Comment Date: 5 p.m. Eastern Time on Friday, March 18, 2011.

Docket Numbers: ER11-2949-000.

Applicants: Arizona Public Service Company.

Description: Arizona Public Service Company submits tariff filing per 35.13(a)(2)(iii: Removal of Reliability Management System from the APS LGIA. to be effective 4/26/2011.

Filed Date: 02/25/2011.

Accession Number: 20110225-5087.

Comment Date: 5 p.m. Eastern Time on Friday, March 18, 2011.

Docket Numbers: ER11-2950-000.

Applicants: Pacific Gas and Electric Company.

Description: Notices of Termination of Service Agreement No. 3 under FERC Electric Tariff Volume No. 5 and PG&E Rate Schedule FERC Nos. 212 and 214.

Filed Date: 02/24/2011.

Accession Number: 20110224-5175.

Comment Date: 5 p.m. Eastern Time on Thursday, March 17, 2011.

Docket Numbers: ER11-2951-000.

Applicants: PacifiCorp.

Description: PacifiCorp submits tariff filing per 35.13(a)(2)(iii: City of Nephi Interconnection Agreement to be effective 2/25/2011.

Filed Date: 02/24/2011.

Accession Number: 20110224-5177.

Comment Date: 5 p.m. Eastern Time on Thursday, March 17, 2011.

Take notice that the Commission received the following electric securities filings:

Docket Numbers: ES11-19-000.

Applicants: Northern Maine Independent System Administrator, Inc.

Description: Application of the Northern Maine Independent System Administrator, Inc. for Authorization To Issue Securities Pursuant to section 204 of the Federal Power Act.

Filed Date: 02/25/2011.

Accession Number: 20110225-5088.

Comment Date: 5 p.m. Eastern Time on Friday, March 18, 2011.

Take notice that the Commission received the following open access transmission tariff filings:

Docket Numbers: OA07-35-005.

Applicants: Cleco Power LLC.

Description: Cleco Power LLC submits the Operational Penalty Annual Compliance Report.

Filed Date: 02/24/2011.

Accession Number: 20110225-0201.

Comment Date: 5 p.m. Eastern Time on Thursday, March 17, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Dated: February 25, 2011.
Nathaniel J. Davis, Sr.,
Deputy Secretary.

[FR Doc. 2011-9416 Filed 4-18-11; 8:45 am]

BILLING CODE 6717-01-P